DEPARTMENT OF COMMERCE

National Institute of Standards and Technology

National Conference on Weights and Measures 95th Annual Meeting

AGENCY: National Institute of Standards and Technology, Commerce.

ACTION: Notice.

SUMMARY: The Annual Meetings of the 95th National Conference on Weights and Measures (NCWM) will be held July 11 to 15, 2010. Publication of this notice on the NCWM's behalf is undertaken as a public service; NIST does not endorse, approve, or recommend any of the proposals contained in this notice or in the publications of the NCWM mentioned below. The meetings of the NCWM are open to the public but registration is required.

DATES: The meeting will be held on July 11-15, 2010.

ADDRESSES: The meeting will be held at the Crowne Plaza St. Paul-Riverfront Hotel, 11 East Kellogg Boulevard, St. Paul, Minnesota 55101.

FOR FURTHER INFORMATION CONTACT: Carol Hockert, Chief, NIST, Weights and Measures Division, 100 Bureau Drive, Stop 2600, Gaithersburg, MD 20899-2600 or by telephone (301) 975-5507 or at Carol.Hockert@nist.gov by e-mail. Registration is required to attend this meeting. Please see NCWM Pub 16 “Committee Reports for the 95th National Conference on Weights and Measures” at http://www.ncwm.net or http://www.nist.gov/owm to review the full meeting agenda, registrations forms, and hotel reservation information.

SUPPLEMENTARY INFORMATION: The NCWM is a voluntary organization of weights and measures officials of the states, counties, and cities of the United States, Federal agencies, and private sector representatives. These meetings bring together government officials and representatives of business, industry, trade associations, and consumer organizations on subjects related to the field of weights and measures technology, administration, and enforcement. NIST participates in the NCWM to promote uniformity among the states in laws, regulations, methods, and testing equipment that comprise the regulatory control of commercial weighing and measuring devices and other practices used in trade and commerce.

The following are brief descriptions of some of the significant agenda items that will be considered along with other issues at the NCWM Annual Meeting. Comments will be taken on these and other issues during several public comment sessions. At this stage, the items are proposals. This meeting also includes work sessions in which the Committees may also accept oral and written comments where they will finalize recommendations for NCWM consideration and possible adoption at its voting sessions which are tentatively scheduled for July 14 and 15, 2010. The Committees may withdraw or carry over items that need additional development.

The Specifications and Tolerances Committee (S&T Committee) will consider proposed amendments to NIST Handbook 44, “Specifications, Tolerances, and other Technical Requirements for Weighing and Measuring Devices (NIST Handbook 44).” Those items address weighing and measuring devices used in commercial applications, that is, devices that are normally used to buy from or sell to the public or used for determining the quantity of product sold among businesses.

Issues on the agenda of the NCWM Laws and Regulations Committee (L&R Committee) relate to proposals to amend NIST Handbook 130, “Uniform Laws and Regulations in the area of legal metrology and engine fuel quality” and NIST Handbook 133 “Checking the Net Contents of Packaged Goods.” These documents are available on the Internet at http://www.nist.gov/owm.

This notice contains information about significant items on the NCWM Committee agendas, but does not include all agenda items. As a result, the following items are not consecutively numbered.

NCWM Specifications and Tolerances Committee

The following items are proposals to amend NIST Handbook 44:

General Code

Item 310-4. G-A.6. Nonretroactive Requirements (Remanufactured Equipment)—The NCWM will consider adoption of a revision to a current requirement to clarify the intent of the 2001 decision regarding the application of a variety of nonretroactive requirements to devices that have been classified to have been “remanufactured” (i.e., a device that is disassembled, checked for wear, parts replaced or fixed, reassembled and made to operate like a new device of the same type) as compared with a “manufactured device” which is a commercial weighing or measuring device shipped as new from the original equipment manufacturer.

Scales Code

Item 320-2. S.1.7. Automatic Zero-Setting Mechanism (AZSM)—The NCWM will consider adoption of a proposal to define the acceptable operating parameters of the zero-setting functions used on some electronic weighing devices. These functions automatically maintain a scale's indications at zero when no load is on the device. Existing NIST Handbook 44 requirements prohibit some of the zero-setting functions found on weighing devices designed and sold for use in other countries when those devices are used in commercial applications in the U.S. marketplace. The intent of the proposal is to retroactively prohibit the use of this feature on scales used in commercial transactions.

Vehicle Tank Meter Code

Item 331-1. T.2.1. Automatic Temperature-Compensating Systems (ATC) on Vehicle Tank Meters (These systems may be used on existing vehicle mounted meters that are typically used to deliver home heating fuel and other products to residential and business consumers.)—The NCWM will consider adoption of the proposal to revise the existing tolerances applicable to comparisons of test results between compensated and non-compensated test runs on vehicle tank meters equipped with ATC systems to better reflect the actual performance capability of these systems.

Commercial Hydrogen Gas Measuring Devices

Item 360-1. Tentative Code for Hydrogen Gas-Measuring Devices—The NCWM will consider adoption of a set of specifications, tolerances, and other technical requirements as a “tentative” code for inclusion in NIST Handbook 44 that can be applied on a trial basis to commercial measuring equipment used to deliver hydrogen fuel to highway vehicles, which are currently operating in 24 states. The code was developed by the U.S. National Working Group (USNWG) for the Development of Commercial Hydrogen Measurement Standards that included key stakeholders and experts in commercial hydrogen measurement, such as manufacturers and users of commercial hydrogen measuring equipment, fuel suppliers, regulatory officials, and other interested parties. Adoption and use of the code on a trial basis is expected to provide feedback to the USNWG on how well the draft meets the needs of the measurement community in a broad range of applications. The proposed tolerances are based on an assessment of the range of accuracy levels reported thus far, but require additional evaluation. The appropriateness of the tolerance values will be determined in conjunction with the evaluation of the other requirements contained in this tentative code. Based on the feedback received from its use as a tentative code, if needed additional changes, will be included in the code prior to it being recommended for adoption as a “permanent” (or fully enforceable) code in NIST Handbook 44.

NCWM Laws and Regulations Committee

The following items are proposals to amend NIST Handbook 130:

Method of Sale of Commodities Regulation

Item 232-2. Method of Sale and Engine Fuel Quality Requirements for Hydrogen—The NCWM will consider adoption of a proposal to establish a uniform method of sale for hydrogen offered for retail sale as a vehicle fuel.

Item 232-5. Uniform Regulation for Method of Sale of Commodities—Packaged Printer Ink and Toner Cartridges—This is an informational item and it will not be voted on at the 2010 Annual Meeting. The L&R Committee will accept comments on this item and then consider recommending adoption of a method of sale to clarify the net quantity of contents and other labeling requirements for these products. The Committee requests that manufacturers and sellers of these products, consumers, and weights and measures officials provide comments on the draft regulation which is presented in Publication 16.

Item 232-6. Method of Sale, Section 2.23. Animal Bedding—The NCWM will consider adoption of a proposal to amend the current method of sale (i.e., a regulation that specifies whether a product may be sold by weight, measure, count, or a combination of the three methods to facilitate value comparisons by consumers) to accommodate the special needs and provisions of granular, pelleted, and other non-compressible dry laboratory animal bedding materials sold to commercial end-users in the specialized lab animal research industry on a weight or per pound basis.

The following items are proposals to amend NIST Handbook 133 “Checking the Net Contents of Packaged Goods”:

Item 260-1. Guidance on Allowing for Moisture Loss and Other Revisions—The NCWM will consider adoption of proposed revisions to the procedures that handbook users may use to provide for moisture loss in packaged goods. Other proposals to amend the handbook include revisions of current language, including additional instructions in some test procedures, to increase clarity and uniformity. Further discussion of the draft revision of the handbook is presented in Publication 16.

Item 260-2. Seed Count for Agricultural Seeds—The NCWM will consider adoption of test procedures for determining actual seed count in packages, which may be labeled to contain up to 80,000 seeds, and limits on unreasonable quantity variations for addition to the handbook. These proposals were developed by seed regulatory officials in collaboration with industry for use in verifying the net quantity of contents of packages of agricultural seed (specifically corn seed, soybean seed, field bean seed, and wheat seed) labeled by “count.”

Item 260-6. Moisture Allowance for Pasta Products—The NCWM will consider adoption of a proposal for a three percent limit on moisture loss for macaroni, noodle, and like products (pasta products). If this proposal is adopted, the specified value would be used by weights and measures officials to enforce laws related to the accuracy of net quantity of contents declaration on packaged goods and to define reasonable variations caused by the loss or gain of moisture.

Dated: May 26, 2010.
Katharine B. Gebbie,
Director, Physics Laboratory.

[FR Doc. 2010-13198 Filed 6-1-10; 8:45 am]

BILLING CODE 3510-13-P